DEPARTMENT OF COMMERCE

International Trade Administration

Consumer Goods Trade Policy Mission

AGENCY: International Trade Administration, Department of Commerce.

ACTION: Notice to announce consumer goods trade policy mission to Beijing, China, November 8-9, 2004.

FOR FURTHER INFORMATION CONTACT: Office of Business Liaison; Room 5062; Department of Commerce; Washington, DC 20230; Tel: (202) 482-1360; Fax: (202) 482-4054.

SUPPLEMENTARY INFORMATION:

Consumer Goods Trade Policy Trade Mission, Beijing, China

November 8-9, 2004.

Mission Statement

I. Description of the Mission

The International Trade Administration's Office of Consumer Goods, Office of China Economic Area, and U.S. Commercial Service is sponsoring a consumer goods trade policy mission to Beijing, China, November 8-9, 2004. This event will target sectors of the U.S. consumer goods industry involved in trade with China. Targeted trade policy mission participants will include representatives from U.S. firms specializing in consumer goods. The Department of Commerce's Assistant Secretary for Trade Development will lead the mission.

II. Commercial Setting for the Mission

Many firms would like to expand their exports to the large Chinese consumer market. China is the top source of U.S. imports of many key consumer goods products, yet some U.S. firms feel they are not afforded the same market access to the Chinese market.

The major issues, as expressed by U.S. consumer goods representatives, are as follows:

Intellectual Property Rights—Since joining the World Trade Organization (WTO), China has strengthened its laws and regulations to comply with the WTO Agreement on Trade-Related Aspects of Intellectual Property Rights (TRIPs). Despite China's efforts to strengthen IPR protection, U.S. industry representatives continue to report instances of counterfeiting (particularly of brand names), copyright infringement, piracy, and inadequate/inconsistent enforcement of the regulations.

Distribution and Trading Rights—China's WTO commitments call for the phasing-out (over a three-year period) of certain restrictions on foreign companies to market, transport, and service/support their products in the domestic Chinese market. They also call for continued efforts to liberalize import and export regulations. U.S. consumer goods industry representatives are hopeful that recently announced changes regarding these regulations will lead to increased market access.

Standards—China's WTO commitments call for it to bring its technical regulations and standards into accordance with the WTO Agreement on Technical Barriers to Trade. U.S. consumer goods industry representatives continue to report concerns regarding the progress of these reforms, particularly with respect to standards issues.

Urban Motorcycle Restrictions—Most major Chinese cities have enacted restrictions on the use and ownership of motorcycles. Beijing was the first city to restrict the development of motorcycle usage in 1989, followed by more and more urban areas, with the trend accelerating especially after 1996. Today, well over 100 large and medium sized cities have enacted various restrictions on the usage or ownership of motorcycles.

III. Goals for the Mission

The objective of the mission is for representatives of the U.S. consumer goods industry to meet with Chinese officials to discuss the above issues (intellectual property rights, distribution and trading rights, standards, urban motorcycle restrictions) in an effort to expand their activities to provide products to the Chinese consumer market.

IV. Scenario for the Mission

The Consumer Goods Trade Policy Mission will take place over a two-day period of meetings in Beijing. The U.S. Commercial Service will provide market briefings and schedule appointments with appropriate government officials involved with the consumer goods industry. The purpose of the meetings would be for representatives of the U.S. consumer goods industry to meet with Chinese officials to discuss current issues relating to the aforementioned issues and U.S.-China bilateral trade of consumer goods products, and to share ideas on ways to strengthen this relationship.

Timetable

November 7—Arrive in Beijing (individual travel plans to be determined by participants); activities open.

November 8—Briefing for mission delegates with Beijing consultative staff. Delegation participants expect to meet with officials from the National Development and Reform Commission (NDRC), the Ministry of Commerce (MOFCOM), the Ministry of Information (MII), and the State Administration for Quality Supervision and Inspection and Quarantine (AQSIQ).

November 9 “ Delegation will continue meetings with officials from the aforementioned government agencies.

November 10—Mission delegation will depart for the United States, or other destinations.

V. Criteria for Participation

• Relevance of the company's business line to mission goals. Participants must be U.S. citizens representing U.S. manufacturing or service firms in the consumer goods industry (exclusive of automobiles, consumer electronics, computers and accessories, and cosmetics).

• Participating firms must be incorporated or otherwise organized under the laws of the United States, and demonstrate that they are at least 51 percent U.S.-owned.

• Representatives of participating firms must have experience in dealing with China trade policy issues on behalf of their firms.

• Potential for expanding business in the Chinese market.

• Minimum of 8 and maximum of 20 participating in the mission.

• Provision of adequate information on the company's products and/or services and communication of the company's primary objectives to facilitate appropriate matching with government officials.

Mission recruitment will be conducted in an open and public manner, including publication in the Federal Register, posting on the Commerce Department's trade missions calendar— http://www.ita.doc.gov/doctm/tmcal.html—and other Internet Web sites, press releases to the general and trade media, direct mail and broadcast fax, notices by industry trade associations and other multiplier groups, and at industry meetings, symposia, conferences, trade shows.

Recruitment for the mission will begin no later than July 2004 and conclude no later than September 10, 2004.

Participants in the Mission must agree to represent the interests of their firms only, and they may not represent the policies of the U.S. government.

Any partisan political activities (including political contributions) of an applicant are entirely irrelevant to the selection process.

Costs

$950 per participant. Budget breakdown available upon request.

Contacts Information: John Vanderwolf, Charlie Rast, U.S. Department of Commerce, International Trade Administration, Office of Consumer Goods, ITA/TD/TACGI/OCG, Room 3013, Fax: 202-482-1388, John Vanderwolf—Tel: 202-482-0348; E-mail: john_vanderwolf@ita.doc.gov, Charlie Rast—Tel: 202-482-4034; E-mail: charlie_rast@ita.doc.gov.

Dated: July 20, 2004.
Nancy Hesser,
Industry Sector Manager, Export Promotion Services.

[FR Doc. 04-16909 Filed 7-23-04; 8:45 am]

BILLING CODE 3510-DR-P